DEPARTMENT OF THE INTERIOR

Bureau of Land Management

[NV-056-5874-EU; N-82714; 8-08807; TAS: 14X5260]

Notice of Realty Action: Direct Sale of Public Lands in Nye County, NV

AGENCY: Bureau of Land Management, Interior.

ACTION: Notice.

SUMMARY: The Bureau of Land Management (BLM) proposes to offer by non-competitive sale one parcel of land in Nye County, Nevada totaling approximately 292.46 acres. This land has been examined and found suitable for disposal utilizing direct sale procedures. The authority for the sale is under Sections 203 and 209 of the Federal Land Policy and Management Act of 1976 (FLPMA), 43 U.S.C. 1713 and 1719, respectively, and BLM land sale and mineral conveyance regulations at 43 CFR 2710 and 2720.

DATES: Interested parties may submit written comments regarding the proposed sale or the environmental assessment (EA) until July 7, 2008.

ADDRESSES: Mail written comments to the BLM Field Manager, Las Vegas Field Office, 4701 N. Torrey Pines Drive, Las Vegas, NV 89130.

FOR FURTHER INFORMATION CONTACT: Manuela Johnson at (702) 515-5224.

SUPPLEMENTARY INFORMATION: The following described land, parcel N-82714, is located at the intersection of U.S. Highway 95 and State Route 373, known as Lathrop Wells, Nevada.

The parcel is legally described as:

Mount Diablo Meridian, Nevada.

T. 15 S., R. 50 E.,

Sec. 18, lots 39 and 41, E½NW¼, E½NW¼NW¼, E½SW¼NW¼, NE¼SW¼, SE¼NW¼SW¼, E½NE¼NW¼SW¼, NW¼NE¼NW¼SW¼, E½NE¼SE¼SW¼, NE¼NW¼SE¼SW¼, N½SE¼, W½NE¼SW¼SE¼, NW¼SE¼SW¼SE¼, NW¼SW¼SE¼.

The area described contains 292.46 acres, more or less.

This parcel of land is offered for sale to Nye County, Nevada at no less than the fair market value (FMV) of $818,900 as determined by the authorized officer. An appraisal report has been prepared by a state certified appraiser for the purposes of establishing FMV.

Consistent with Section 203 of FLPMA, the tract of the lands may be sold where, as a result of approved land use planning, the sale of the tract meets the disposal criteria. These lands are identified as suitable for disposal in the BLM Las Vegas Resource Management Plan (RMP), approved October 5, 1998. BLM has determined that the proposed action conforms to the land use plan decision, LD-1, in that RMP. LD-1 provides that the Las Vegas Field Office should dispose of this property to local governmental entities as identified by a local government and is consistent with community plans. The EA, master title plat, map, and approved appraisal report for the proposed sale are available for review at the Las Vegas Field Office.

This sale meets the criteria found in 43 CFR 2710.0-3(a)(2) which states that disposal of such tract shall serve important public objectives, including but not limited to, expansion of communities and economic development, which cannot be achieved prudently or feasibly on lands other than public lands and which outweigh other public objectives and values, including, but not limited to, recreation and scenic values, which would be served by maintaining such tract in Federal ownership.

Lands totaling approximately 353.12 acres were identified for a non-competitive direct sale under special legislation, Public Law 106-113, through a notice published in the Federal Register on March 9, 2001. Of these lands, 60.66 acres, more or less, were conveyed to Nye County by Patent Number 27-2002-0059, dated July 18, 2002. Public Law 106-113 expired on November 29, 2004.

On March 30, 2006, Nye County submitted a letter to the BLM requesting to purchase the remaining 292.46 acres, more or less, of lands pursuant to 43 CFR 2710.0-6(c)(3)(iii), Sections 203 and 209 of FLPMA, and the Federal Land Transaction Facilitation Act (Public Law 106-248). Pursuant to that request from Nye County, the BLM proposes to offer by sale this parcel of land located in the Amargosa Valley.

This parcel is surrounded on the south side by private lands and the remaining sides by public lands. Access to the parcel is from U.S. Highway 95.

A direct sale (without competition) may be utilized, when in the opinion of the authorized officer, a competitive sale is not appropriate and the public interest would best be served by direct sale. An example includes, but is not limited to, a tract identified for transfer to State or local government.

Certain minerals for this parcel will be reserved to the United States in accordance with BLM approved Mineral Potential Report, dated February 29, 2000. Information pertaining to the reservation of minerals specific to the parcel is located in the case file and available for review at the Las Vegas Field Office.

Terms and Conditions of Sale: The patent issued would contain the following numbered reservations, covenants, terms and conditions:

1. All sand, gravel, oil and gas minerals are reserved to the United States, its permittees, licensees and lessees, together with the right to prospect for, mine, and remove the minerals under applicable law and such regulations as the Secretary of the Interior may prescribe, along with all necessary access and exit rights;

2. A right-of-way is reserved for ditches and canals constructed by authority of the United States under the Act of August 30, 1890 (43 U.S.C. 945);

3. A right-of-way is reserved for federal aid highway purposes which have been reserved to Nevada Department of Transportation, its successors and assigns, by right-of-way No. CC-018078, pursuant to the Act of November 9, 1921 (042 Stat. 0216);

4. The parcel is subject to valid existing rights;

5. Those rights for an aerial telephone line purposes which have been granted to Nevada Bell, its successors and assigns, by right-of-way No. CC-021745, pursuant to the Act of October 21, 1976 (43 U.S.C. 1761);

6. Those rights for fiber optic line purposes which have been granted to Nevada Bell, its successors and assigns, by right-of-way No. N-73706, pursuant to the Act of October 21, 1976 (43 U.S.C. 1761);

7. Those rights for a fiber optic line purposes which have been granted to Nevada Bell, its successors and assigns, by right-of-way No. N-81408, pursuant to the Act of October 21, 1976 (43 U.S.C. 1761);

8. Those rights for aerial line purposes which have been granted to Valley Electric Association, its successors and assigns, by right-of-way No. N-058116, pursuant to the Act of February 15, 1901 (43 U.S.C. 959);

9. By accepting this patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentees use, occupancy, or operations on the patented real property. This indemnification and hold harmless agreement includes, but is not limited to, acts and omissions of the patentee, its employees, agents, contractors, or lessees, or third party arising out of or in connection with the use and/or occupancy of the patented real property resulting in: (1) Violations of federal, state, and local laws and regulations applicable to the real property; (2) Judgments, claims or demands of any kind assessed against the United States; (3) Costs, expenses, damages of any kind incurred by the United States; (4) Other releases or threatened releases on, into or under land, property and other interests of the United States by solid or hazardous waste(s) and/or hazardous substance(s), as defined by federal or state environmental laws; (5) Other activities by which solid or hazardous substances or wastes, as defined by federal and state environmental laws were generated, released, stored, used or otherwise disposed of on the patented real property, and any cleanup response, remedial action, or other actions related in any manner to said solid or hazardous substances or wastes; (6) Or natural resource damages as defined by federal and state law. This covenant shall be construed as running with the patented real property, and may be enforced by the United States in a court of competent jurisdiction; and

10. Pursuant to the requirements established by section 120(h) of the Comprehensive Environmental Response, Compensation and Liability Act, 43 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

The parcel is subject to reservations for road, public utilities and flood control purposes, both existing and proposed, in accordance with the local governing entities' transportation plans.

No warranty of any kind, express or implied, is given by the United States as to the title, physical condition or potential uses of the parcel of land proposed for sale, and the conveyance of any such parcel will not be on a contingency basis. It is the buyer's responsibility to be aware of all applicable federal, state and local government policies and regulations that would affect the subject lands. It is also the buyer's responsibility to be aware of existing or prospective uses of nearby properties. Any land lacking access from a public road or highway will be conveyed as such, and future access acquisition will be the responsibility of the buyer.

Federal law requires that conveyees must be: (a) A citizen of the United States 18 years of age or over; (b) a corporation subject to the laws of any State or of the United States; (c) a State, State instrumentality or political subdivision authorized to hold property; and (d) an entity legally capable of conveying and holding lands or interests therein under the laws of the State within which the lands to be conveyed are located. Where applicable, the entity shall also meet the requirements of paragraphs (a) and (b) of this section.

Upon publication of this notice and until completion of the sale, the BLM is no longer accepting land use applications affecting the identified land, except applications for the amendment of previously filed right-of-way applications or existing authorizations to increase the term of the grants in accordance with 43 CFR 2807.15 and 2886.15. Encumbrances that may appear in the BLM files for the parcel proposed for sale are available for review during business hours, 7:30 a.m. to 4:30 p.m., Pacific Time, Monday through Friday, at the Las Vegas Field Office.

The parcel may be subject to applications received prior to publication of this notice if processing the application would have no adverse effect on the marketability of title, or the FMV of the parcel. Encumbrances of records, appearing in the BLM files for the parcel offered for sale, are available for review during business hours, 7:30 a.m. to 4:30 p.m., Pacific Time, Monday through Friday, at the Las Vegas Field Office. Subject to limitations prescribed by law and regulation, and prior to patent issuance, a holder of any right-of-way within the parcel may be given the opportunity to amend the right-of-way for conversion to a new term, including perpetuity, if applicable, or to an easement.

BLM will notify valid existing right-of-way holders of their ability to convert their compliant rights-of-way to perpetual rights-of-way or easements. Each valid holder will be notified in writing of their rights and then must apply for the conversion of their current authorization.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the Las Vegas Field Office prior to 30 days before the prospective patentee's scheduled closing date. There are no exceptions.

BLM will not sign any documents related to 1031 Exchange transactions. The timing for completion of the exchange is the prospective patentee's responsibility in accordance with Internal Revenue Service regulations. BLM is not a party to any 1031 Exchange.

In the event of a sale, the unreserved mineral interests will be conveyed simultaneously with the sale of the land. These unreserved mineral interests have been determined to have no known mineral value pursuant to 43 CFR 2720.0-6 and 2720.2(a). Acceptance of the sale offer will constitute an application for conveyance of those unreserved mineral interests. The purchaser will be required to pay a $50 non-refundable filing fee for conveyance of the available mineral interests. In accordance with BLM's authority to conduct direct sales, BLM is borrowing some of the competitive bid procedures as set forth below. The purchaser will have until 4 p.m., Pacific Time, 30 days from the date of receiving the sale offer to accept the offer and submit a deposit of 20 percent of the purchase price, the $50 filing fee for conveyance of mineral interests, and payment of publication costs to the Las Vegas Field Office. The purchaser must remit the remainder of the purchase price within 180 days from the date of receiving the sale offer to the Las Vegas Field Office. Payments must be received by certified check, postal money order, bank draft, or cashier's check payable to the U.S. Department of the Interior—BLM. Failure to meet conditions established for this sale will void the sale and any monies received will be forfeited. Arrangements for electronic fund transfer to BLM for the balance due shall be made a minimum of two weeks prior to the date you wish to make payment.

The BLM may accept or reject any or all offers to purchase any parcel, or may withdraw any parcel of land or interest therein from sale, if, in the opinion of the authorized officer, consummation of the sale would not be fully consistent with the FLPMA or other applicable laws or is determined to not be in the public interest.

Public Comments: The parcel of land will not be offered for sale prior to 60 days from the date of publication of this notice. For a period until July 7, 2008, interested parties may submit written comments to the Las Vegas Field Office. Only written comments submitted by postal service or overnight mail will be considered as properly filed. Electronic mail, facsimile, or telephone comments will not be considered comments as properly filed.

Before including your address, phone number, e-mail address, or other personal identifying information in your comment, you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of timely filed objections, this realty action will become the final determination of the Department of the Interior.

Authority: 43 CFR 2711.

Dated: May 12, 2008.
Mary Jo Rugwell,
Las Vegas Field Office Manager.

[FR Doc. E8-11504 Filed 5-21-08; 8:45 am]

BILLING CODE 4310-HC-P